COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products and services from the Procurement List that were furnished by nonprofit agencies employing persons who are blind or have other severe disabilities.

DATES: Date deleted from the Procurement List: October 28, 2018.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Deletions

On 8/24/2018 (83 FR 165), the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the product(s) and service(s) deleted from the Procurement List.

End of Certification

Accordingly, the following products and services are deleted from the Procurement List:

Products

NSN(s)—Product Name(s):

8115-00-935-6531—Box, Shipping Cleated Plywood, 43″ x 31¾″ x 21½″

8115-00-935-6526—Box, Shipping Cleated Plywood, 43″ x 31¾″ x 41″

8115-00-935-6530—Box, Shipping Cleated Plywood, 86″ x 31¾″ x 21½″

8115-00-935-6532—Box, Shipping Cleated Plywood, 31¾″ x 29″ x 21½″

8115-00-935-5887—Box, Shipping Cleated Plywood, 86″ x 31¾” x 41″

8115-00-935-6525—Box, Shipping Cleated Plywood, 57″ x 31¾” x 41″

8115-00-935-6527—Box, Shipping Cleated Plywood, 29″ x 31¾” x 41″

8115-00-935-6528—Box, Shipping Cleated Plywood, 58″ x 43″ x 41″

Mandatory Source of Supply: Helena Industries, Inc., Helena, MT

Contracting Activity: GSA/FAS ADMIN SVCS ACQUISITION BR(2, NEW YORK, NY

Services

Service Type: Janitorial/Custodial Service

Mandatory for: VA Outpatient Clinic, Mobile, AL

Mandatory Source of Supply: Lakeview Center, Inc., Pensacola, FL

Contracting Activity: VETERANS AFFAIRS, DEPARTMENT OF, NAC

Service Type: Janitorial/Custodial Service

Mandatory for: Naval Operations Support Center (NOSC) Bldgs. 245 and 247, Cheyenne, WY

Mandatory Source of Supply: Skils'kin, Spokane, WA

Contracting Activity: DEPT OF THE NAVY, NAVFAC NORTHWEST

Service Type: Janitorial/Custodial Service

Mandatory for: Orlando VA Medical Center: 2500 Leahy Avenue, Orlando, FL

Mandatory Source of Supply: Lakeview Center, Inc., Pensacola, FL

Contracting Activity: VETERANS AFFAIRS, DEPARTMENT OF, 675-ORLANDO

Service Type: Food Service Attendant Service

Mandatory for: USDA, Animal and Plant Health Inspection Service: Otis Methods Dev. Center, Building 1398, Otis ANG Base, MA

Mandatory Source of Supply: UNKNOWN

Contracting Activity: DEPT OF THE AIR FORCE, FA7014 AFDW PK

Service Type: Laundry Service

Mandatory for:

Aiken CBOC, Aiken, SC, 951 Milbrook Avenue, Aiken, SC

Athens VA CBOC, Athens, GA, 9249 Highway 29 South, Athens, GA

Carl Vinson VA Medical Center, Dublin, GA, 1826 Veterans Boulevard, Dublin, GA

Charlie Norwood VA Medical Center Uptown Division, 1 Freedom Way, Augusta, GA

Charlie Norwood VA Medical Center Downtown Division, 800 Balie Street, Augusta, GA

Ralph H. Johnson VA Medical Center, Charleston, SC, 109 Bee Street, Charleston, SC

W.J.B. Dorn VA Medical Center, Columbia, SC, 6439 Garners Ferry Road, Columbia, SC

Mandatory Source of Supply: GINFL Services, Inc., Jacksonville, FL

Contracting Activity: VETERANS AFFAIRS, DEPARTMENT OF, 247-NETWORK

Service Type: Laundry Service

Mandatory for: Fleet and Industrial Supply Command, Norfolk, VA

Mandatory Source of Supply: Rappahannock Goodwill Industries, Inc., Fredericksburg, VA

Contracting Activity: DEPT OF THE NAVY, U S FLEET FORCES COMMAND

Service Type: Food Service Attendant Service

Mandatory for: Norfolk Naval Shipyard: Bldgs:1SJ-4SJ, 6SJ-8SJ, 11SJ, 12SJ, 14SJ, 19, 26SJ, 38SJ, 41, 43SJ, 51, 59, 67, 69SJ, 79SJ, 82SJ, 89SJ, 91SJ, 94SJ, 124SJ, 164SJ-168SJ, 170SJ-172SJ, + 38 add'l bldgs. Portsmouth, VA

Mandatory Source of Supply: Portco, Inc., Portsmouth, VA

Contracting Activity: DEPT OF THE NAVY, U S FLEET FORCES COMMAND

Service Type: Laundry Service

Mandatory for:

Transient Personnel Unit, BEQ & BOQ,: Fleet Anti-Submarine Warfare Center, San Diego, CA

San Diego Naval Air Station: Galley Building 794, San Diego, CA

Mandatory Source of Supply: Job Options, Inc., San Diego, CA

Contracting Activity: DEPT OF THE NAVY, U S FLEET FORCES COMMAND

Service Type: Janitorial/Custodial Service

Mandatory for: Naval & Marine Corps Reserve Center, Lehigh Valley, PA

Mandatory Source of Supply: Via of the Lehigh Valley, Inc., Bethlehem, PA

Contracting Activity: DEPT OF THE NAVY, U S FLEET FORCES COMMAND

Service Type: Document Processing Service

Mandatory for: Office of Transportation Audits: 18th & F Streets NW, Washington, DC

Mandatory Source of Supply: Linden Resources, Inc., Arlington, VA

Contracting Activity: FEDERAL ACQUISITION SERVICE, GSA/FSS INFORMATION TECHNOLOGY CENTER

Michael R. Jurkowski,
Business Management Specialist.

[FR Doc. 2018-21183 Filed 9-27-18; 8:45 am]

BILLING CODE 6353-01-P